COMMODITY FUTURES TRADING COMMISSION

Sunshine Act Meetings

FEDERAL REGISTER CITATION OF PREVIOUS ANNOUNCEMENT: 88 FR 40790, June 22, 2023.

PREVIOUSLY ANNOUNCED TIME AND DATE OF THE MEETING: 12:00 noon EDT, Monday, June 26, 2023.

CHANGES IN THE MEETING: The meeting has been canceled.

CONTACT PERSON FOR MORE INFORMATION: Christopher Kirkpatrick, Secretary of the Commission, 202-418-5964.

Authority: 5 U.S.C. 552b.

Dated: June 23, 2023.
Christopher Kirkpatrick,
Secretary of the Commission.

[FR Doc. 2023-13811 Filed 6-26-23; 11:15 am]

BILLING CODE 6351-01-P